NATIONAL INDIAN GAMING COMMISION

Notice of Approved Class III Tribal Gaming Ordinance

AGENCY: National Indian Gaming Commission.

ACTION: Notice.

SUMMARY: The purpose of this notice is to inform the public of the approval of Pauma Band of Luiseno Mission Indians of the Pauma & Yuima Reservation's Class III gaming ordinance by the Chairman of the National Indian Gaming Commission.

DATES: This notice is applicable December 27, 2022.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every ordinance and approval thereof is posted on the Commission's website (www.nigc.gov) under General Counsel, Gaming Ordinances within five (5) business days of approval.

On September 19, 2022, the Chairman of the National Indian Gaming Commission approved Pauma Band of Luiseno Mission Indians of the Pauma & Yuima Reservation's Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: September 28, 2022.
Michael Hoenig,
General Counsel.

September 19, 2022

Chairman Temet A. Aguilar

Pauma Band of Luiseno Mission Indians of the Pauma & Yuima Reservation

1010 Pauma Reservation Rd,

Pauma Valley, CA 92061

Re: Pauma Band of Luiseno Mission Indians of the Pauma & Yuima Reservation's Amended Gaming Ordinance and Regulations

Dear Chairman Aguilar,

This letter responds to the July 8, 2022 submission on behalf of the Pauma Band of Luiseno Mission Indians of the Pauma & Yuima Reservation (Tribe) informing the National Indian Gaming Commission (NIGC) that the Tribe amended its gaming ordinance and regulations. We understand that these amendments reflect changes in tribal law and ensure consistency with federal and state law as required by its gaming compact with the state of California. Upon review, many of the amendments are technical and non-substantive in nature, with some substantive changes made regarding sovereign immunity, third-party claims, disability and workers' compensation, and structural changes to the Pauma Gaming Commission's composition.

I would like to take this opportunity to remind the Tribe that 25 CFR 522.3 requires that a tribe submit for the Chairman's approval any amendment to an ordinance or resolution within fifteen (15) days after adoption.

Thank you for bringing these amendments to our attention. The amended ordinance and regulations, as noted above, are approved as they are consistent with the requirements of the Indian Gaming Regulatory Act and NIGC's regulations. If you have any questions or require anything further, please contact Logan Cooper at (503) 318-7524 or Logan.Cooper@nigc.gov.

Sincerely,

E.Sequoyah: Simermeyer Chairman

[FR Doc. 2022-28049 Filed 12-23-22; 8:45 am]

BILLING CODE 7565-01-P